DEPARTMENT OF THE INTERIOR

Fish and Wildlife Service

Safe Harbor Agreement and Receipt of Application for an Enhancement of Survival Permit Associated With the Restoration of Habitat and Reintroduction of Utah Prairie Dogs on Private Land in Sevier County, UT

AGENCY: Fish and Wildlife Service, Interior.

ACTION: Notice of availability.

SUMMARY: Mr. Mitchel Pace (Applicant/Cooperator) has applied to the Fish and Wildlife Service (Service) for an Enhancement of Survival Permit (ESP) for the Utah prairie dog pursuant to section 10(a)1(A) of the Endangered Species Act of 1973 (U.S.C. 1531 et seq.), as amended (Act). This permit application includes a proposed Safe Harbor Agreement (SHA) between the Applicant and the Service. The proposed SHA and permit would become effective upon signature of the SHA and would remain in effect for 25 years. This notice is provided pursuant to the National Environmental Policy Act (NEPA), section 10 of the Act, and the Service's Safe Harbor Policy (64 FR 32717). The Service requests information, views, and opinions from the public via this notice. Further, the Service is soliciting information regarding the adequacy of the SHA as measured against the Service's Safe Harbor Policy and the regulations that implement it.

DATES: Written comments on the permit application must be received on or before October 7, 2005.

ADDRESSES: Persons wishing to review the proposed SHA and the permit application may obtain copies by writing the Service's Mountain-Prairie Regional Office, Denver, Colorado. Documents also will be available for public inspection during normal business hours at the Regional Office, U.S. Fish and Wildlife Service, 134 Union Boulevard, Lakewood, Colorado 80228-1807, or the Utah Field Office, U.S. Fish and Wildlife Service, 2369 West Orton Circle, West Valley City, Utah 84119. Written data or comments concerning the proposed SHA and/or permit application must be submitted to the Regional Office and must be in writing to be processed. Comments must be submitted in writing to be adequately considered in the Service's decision-making process. Please reference permit number TE-106063 in your comments, or in the request for the documents discussed herein.

FOR FURTHER INFORMATION CONTACT: Pat Mehlhop, Regional Safe Harbor Coordinator (see ADDRESSES), telephone (303) 236-4215, or Henry Maddux, Utah Field Supervisor (see ADDRESSES), telephone (801) 975-3330.

SUPPLEMENTARY INFORMATION: The Utah prairie dog is the westernmost member of the genus Cynomys. The species' range, which is limited to the southwestern quarter of Utah, is the most restricted of all prairie dog species in the United States. Distribution of the Utah prairie dog has been greatly reduced due to disease (plague), poisoning, drought, and human-related habitat alteration. Protection of this species and enhancement of its habitat on private land will benefit recovery efforts.

The primary objective of this proposed SHA is to implement voluntary conservation measures to benefit the species and the landowner. Through this agreement, the landowner will receive relief from any section 9 liability under the Act beyond that which exists at the time the agreement is signed (“regulatory baseline”). The private land immediately to the south of the property contains an active Utah prairie dog colony approximately 2 hectares (5 acres) in size. This colony abuts the fence line, but does not extend onto the property to be addressed in the proposed SHA due to unsuitable habitat. To benefit the Utah prairie dog, foraging and visual surveillance habitat will be enhanced by thinning decadent stands of brush and by increasing forage quantity and quality using mechanical and herbicidal treatments and reseeding native grasses and forbs. The habitat improvements will be maintained throughout the term of the permit through managed grazing, additional brush treatments if necessary, and to some degree by the Utah prairie dogs themselves. The Cooperator will receive an ESP that authorizes incidental take of the covered species above the Cooperator's baseline responsibilities, as defined in the SHA.

The Service has evaluated the impacts of this action under the NEPA and determined that it warrants categorical exclusion as described 516 DM 6, Appendix 1, section 1.4 C.(1). The Service will evaluate whether the issuance of the ESP complies with section 7 of the Act by conducting an intra-Service section 7 consultation on the issuance of the permit. The result of the biological opinion, in combination with the above finding and any public comments will be used in the final analysis to determine whether or not to issue the requested ESP, pursuant to the regulations that guide issuance of the type of permit.

Authority: The authority for this action is the Endangered Species Act of 1973, as amended (16 U.S.C. 1531 et seq.), and the National Environmental Policy Act of 1969, as amended (42 U.S.C. 4321 et seq.).

Dated: July 26, 2005.
Elliott N. Sutta,
Regional Director, Denver, Colorado.

[FR Doc. 05-17668 Filed 9-6-05; 8:45 am]

BILLING CODE 4310-55-P